DEPARTMENT OF EDUCATION

[Docket No.: ED-2023-SCC-0155]

Agency Information Collection Activities; Submission to the Office of Management and Budget for Review and Approval; Comment Request; Regional Educational Laboratories (REL) Peer Review: Pilot Data Collection Methods for Examining the Use of Research Evidence

AGENCY: Institute of Educational Sciences (IES), Department of Education (ED).

ACTION: Notice.

SUMMARY: In accordance with the Paperwork Reduction Act (PRA) of 1995, the Department is proposing a new information collection request (ICR).

DATES: Interested persons are invited to submit comments on or before December 13, 2023.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Christopher Boccanfuso, 202-453-7383.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: REL Peer Review: Pilot Data Collection Methods for Examining the Use of Research Evidence.

OMB Control Number: 1850-NEW.

Type of Review: New ICR.

Respondents/Affected Public: Individuals or households.

Total Estimated Number of Annual Responses: 115.

Total Estimated Number of Annual Burden Hours: 43.

Abstract: The Institute of Education Sciences (IES) within the U.S. Department of Education (ED) requests clearance for data collection activities to support a pilot study of the reliability and validity of survey items used to assess the use of research evidence (URE) among education agencies and other partners served by the Regional Educational Laboratories (RELs). The REL program is an essential IES investment focused on partnering with state and local education agencies to use evidence to improve education outcomes by creating tangible research products and providing engaging learning experiences and consultation. IES seeks to better understand how REL partners use research evidence to improve education outcomes and the role of RELs in promoting URE among partners. This study will test the reliability and validity of new and extant URE items in the REL context. Specifically, the study will (1) assess how existing items from the URE literature perform in a REL context and (2) assess the reliability and validity of a small set of items from the Stakeholder Feedback Surveys (SFS) that are currently administered to REL partners and used by IES to improve the work of REL contractors, inform the REL program as a whole, and address internal requests such as the Congressional Budget Justification. The reliability and validity of the new and existing survey items will be assessed through two data collection activities: an online survey administered to a set of partnerships across RELs and follow-up interviews with a subset of REL partners.

Dated: November 6, 2023.
Juliana Pearson,
PRA Coordinator, Strategic Collections and Clearance, Governance and Strategy Division, Office of Chief Data Officer, Office of Planning, Evaluation and Policy Development.

[FR Doc. 2023-24869 Filed 11-9-23; 8:45 am]

BILLING CODE 4000-01-P